DEPARTMENT OF HEALTH AND HUMAN SERVICES

Health Resources and Services Administration

Charter Establishment for the Advisory Committee on Heritable Disorders in Newborns and Children

AGENCY: Health Resources and Services Administration (HRSA), Department of Health and Human Services (HHS).

ACTION: Notice.

SUMMARY: In accordance with the Federal Advisory Committee Act (FACA), HHS is hereby giving notice that the Advisory Committee on Heritable Disorders in Newborns and Children (ACHDNC) has been established as a discretionary advisory committee. The effective date of the establishment is March 20, 2020.

FOR FURTHER INFORMATION CONTACT: Debi Sarkar, Designated Federal Official, Maternal and Child Health Bureau, HRSA, 5600 Fishers Lane, 18W65, Rockville, Maryland 20857; 301-443-0959; or DSarkar@hrsa.gov.

SUPPLEMENTARY INFORMATION: The ACHDNC provides advice and recommendations to the Secretary of HHS on policy, program development, and other matters of significance concerning certain activities described in section 1111 of the Public Health Service (PHS) Act (42 U.S.C. 300b-10), as further described below. The ACHDNC will fulfill the functions previously undertaken by the former Secretary's Advisory Committee on Heritable Disorders in Newborns and Children, which was established under the PHS Act, Title XI § 1111(a) (42 U.S.C. 300b-10(a)). The ACHDNC is also governed by the provisions of the FACA, as amended (5 U.S.C. App.), which sets forth standards for the formation and use of advisory committees. The ACHDNC advises the Secretary of HHS about aspects of newborn and childhood screening and technical information for the development of policies and priorities that will enhance the ability of the state and local health agencies to provide for newborn and child screening, counseling and health care services for newborns and children having, or at risk for, heritable disorders. The ACHDNC will review and report regularly on newborn and childhood screening practices, recommend improvements in the national newborn and childhood screening programs, as well as fulfill the list of requirements stated in the original authorizing legislation. The ACHDNC charter authorizes the committee to operate until March 20, 2022. A copy of the ACHDNC charter is available on the ACHDNC website at https://www.hrsa.gov/advisory-committees/heritable-disorders/index.html. A copy of the charter also can be obtained by accessing the FACA database that is maintained by the Committee Management Secretariat under the General Services Administration. The website address for the FACA database is http://www.facadatabase.gov/.

Maria G. Button,
Director, Executive Secretariat.

[FR Doc. 2020-04504 Filed 3-4-20; 8:45 am]

BILLING CODE 4165-15-P